DEPARTMENT OF LABOR

Office of the Secretary

Submission for OMB Review: Comment Request

August 31, 2004.

The Department of Labor (DOL) has submitted the following public information collection requests (ICRs) to the Office of Management and Budget (OMB) for review and approval in accordance with the Paperwork Reduction Act of 1995 (Pub. L. 104-13, 44 U.S.C. chapter 35). A copy of each ICR, with applicable supporting documentation, may be obtained by contacting the Department of Labor (DOL). To obtain documentation, contact Darrin King on (202) 693-4129 (this is not a toll-free number) or e-mail: king.darrin@dol.gov.

Comments should be sent to Office of Information and Regulatory Affairs, Attn: OMB Desk Officer for the Mine Safety and Health Administration (MSHA), Office of Management and Budget, Room 10235, Washington, DC 20503, (202) 395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Mine Safety and Health Administration.

Type of Review: Extension of currently approved collection.

Title: Radiation Sampling and Exposure Records.

OMB Number: 1219-0003.

Frequency: Weekly and Annually.

Type of Response: Reporting and Recordkeeping.

Affected Public: Business or other for-profit.

Number of Respondents: 2.

Number of Annual Responses: 100.

Estimated Time Per Response: 8 hours.

Total Burden Hours: 800.

Total Annualized Capital/Startup Costs: $0.

Total Annual Costs (operating/maintaining systems or purchasing services): $0.

Description: Title 30 CFR 57.5037 establishes the procedures to be used by the mine operator in sampling mine air for the presence and concentrations of radon daughters. Title 30 CFR 57.5040 requires mine operators to calculate, record and report individual exposures to concentrations of radon daughters. This information is recorded weekly and reported annually to MSHA on the Form 4000-9.

Agency: Mine Safety and Health Administration.

Type of Review: Extension of currently approved collection.

Title: Application for Waiver of Surface Facilities Requirements.

OMB Number: 1219-0024.

Frequency: On occasion and Annually.

Type of Response: Reporting.

Affected Public: Business or other for-profit.

Number of Respondents: 225.

Number of Annual Responses: 662.

Estimated Time Per Response: 30 minutes to prepare an initial waiver request and 20 minutes to prepare a request for an extension of a waiver.

Total Burden Hours: 259.

Total Annualized Capital/Startup Costs: $0.

Total Annual Costs (operating/maintaining systems or purchasing services): $0.

Description: Title 30 CFR 71.400 through 71.402 and 75.1712-1 through 75.1712-3 require coal mine operators to provide bathing facilities, clothing change rooms, and sanitary flush toilet facilities in a location that is convenient for use of the miners. If the operator is unable to meet any or all of the requirements, the operator may apply for a waiver. 30 CFR 71.403, 71.404, 75.1712-4 and 75.1712-5 provide procedures by which an operator may apply for and be granted a waiver.

Agency: Mine Safety and Health Administration.

Type of Review: Extension of currently approved collection.

Title: Representative of Miners, Notification of Legal Identity, and Notification of Commencement of Operations and Closing of Mines.

OMB Number: 1219-0042.

Frequency: On occasion.

Type of Response: Reporting and Third party disclosure.

Affected Public: Business or other for-profit.

Number of Respondents: 3,900.

Information collection requirement | Annual responses | Average response time (hours) | Annual burden hours
Representative of miners | 90 | 0.75 | 68
Notification of legal identity (Form 2000-7):
New mines (hard copy) | 755 | 0.50 | 378
New mines (electronic filing) | 45 | 0.33 | 15
Changes (hard copy) | 3,900 | 0.25 | 975
Changes (electronic filing) | 1,600 | 0.17 | 267
Mine ID request (Form 7000-51) | 350 | 0.08 | 28
Notification of commencement of operations and closing of mines:
Telephone responses | 1,725 | 0.05 | 86
Written responses | 345 | 0.50 | 173
Total | 8,810 |  | 1,990

Total Annualized Capital/Startup Costs: $0.

Total Annual Costs (operating/maintaining systems or purchasing services): $3,078.

Description: Title 30 CFR 40.3 requires the following information to be filed with the MSHA: (1) The name, address and telephone number of the representative or organization that will serve as representative; (2) the name and address of the mine operator; the name, address and MSHA ID number, if known, of the mine; (3) a copy of the document evidencing the designation of the representative; (4) a statement as to whether the representative will serve for all purposes of the Act, or a statement of the limitation of the authority; (5) the name, address and telephone number of an alternate; (6) a statement that all the required information has been filed with the mine operator; and (7) certification that all information filed is true and correct followed by the signature of the miners' representative. Title 30, CFR 40.4 requires that a copy of the notice designating the miners' representative be posted by the mine operator on the mine bulletin board and maintained in current status. Once the required information has been filed, a representative retains his or her status unless and until his or her designation is terminated. Under 30 CFR 40.5, a representative who wishes to terminate his or her designation must file a written statement with the appropriate district manager terminating his or her designation.

Section 109(d) of the Mine Act, requires each operator of a coal or other mine to file with the Secretary of Labor, the name and address of such mine, the name and address of the person who controls or operates the mine, and any revisions in such names and addresses. Title 30, CFR Part 41 implements this requirement and provides for the mandatory use of Form 2000 7, Legal Identity Report, for notifying the MSHA of the legal identity of the mine operator. Additionally, the Form 7000-51, complements this activity by providing a convenient mechanism for obtaining a mine identification number.

Title 30 CFR 56.1000 and 57.1000, operators of metal and nonmetal mines must notify MSHA when the operation of a mine will commence or when a mine is closed.

Ira L. Mills,
Departmental Clearance Officer.

[FR Doc. 04-20498 Filed 9-9-04; 8:45 am]

BILLING CODE 4510-43-P